SMALL BUSINESS ADMINISTRATION

[Disaster Declaration #20757 and #20758; VIRGINIA Disaster Number VA-20013]

Presidential Declaration Amendment of a Major Disaster for Public Assistance Only for the Commonwealth of Virginia

AGENCY: U.S. Small Business Administration.

ACTION: Amendment 2.

SUMMARY: This is an amendment of the Presidential declaration of a major disaster for Public Assistance Only for the Commonwealth of Virginia (FEMA-4831-DR), dated October 10, 2024.

Incident: Tropical Storm Helene.

DATES: Issued on October 25, 2024.

Incident Period: September 25, 2024 through October 3, 2024.

Physical Loan Application Deadline Date: December 9, 2024.

Economic Injury (EIDL) Loan Application Deadline Date: July 10, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the Commonwealth of Virginia, dated October 10, 2024, is hereby amended to include the following areas as adversely affected by the disaster.

Primary Counties: Albemarle, Appomattox, Botetourt, Buckingham, Charlotte, Floyd, Greene, Madison, Nelson, Patrick, and the Independent City of Roanoke.

All other information in the original declaration remains unchanged.

(Catalog of Federal Domestic Assistance Number 59008)

Alejandro Contreras,
Acting Deputy Associate Administrator, Office of Disaster Recovery & Resilience.

[FR Doc. 2024-25760 Filed 11-5-24; 8:45 am]

BILLING CODE 8026-09-P